DEPARTMENT OF HEALTH AND HUMAN SERVICES

National Institutes of Health

National Institute of General Medical Sciences 2008-2012 Strategic Plan

ACTION: Notice with request for comments.

SUMMARY: NIGMS is initiating a strategic planning process that will culminate in the NIGMS Strategic Plan for 2008-2012. To assist with this process, NIGMS requests input from scientists, scientific organizations, and other interested parties. The goal of this strategic planning process is to identify Institute priorities and guide decision-making over the next five years. Information about NIGMS can be found at http://www.nigms.nih.gov/.

DATES: In order to ensure full consideration, responses must be submitted by 12 midnight EDT on March 20, 2007.

ADDRESSES: Interested individuals and organizations should submit their responses to http://www.nigms.nih.gov/About/StrategicPlan/Input.htm.

SUPPLEMENTARY INFORMATION:

Background

The mission of the National Institute of General Medical Sciences (NIGMS) is to support basic research whose results lay the foundation for the diagnosis, treatment, and prevention of disease. NIGMS-funded researchers seek to answer important questions in fields such as cell biology, biophysics, genetics, developmental biology, pharmacology, physiology, biochemistry, chemistry, bioinformatics, and computational biology, and in selected cross-cutting clinical areas that affect multiple organ systems. NIGMS also provides leadership in promoting the diversity of the scientific workforce and in training the next generation of scientists to assure the vitality and continued productivity of basic research.

NIGMS has embarked on a strategic planning process to identify Institute priorities to guide decision-making over the next five years. To assure the broadest possible input, NIGMS is inviting the scientists, scientific organizations, and other interested parties to respond electronically to a series of questions, listed below.

• What factors should NIGMS consider in deciding how to set its priorities with respect to new and existing areas of support?

• What factors should NIGMS consider in deciding how to set its priorities with respect to research training?

• What new or emerging areas, approaches, or technologies in basic biomedical research should NIGMS pursue?

• As part of its efforts to maintain a balanced research portfolio, how can NIGMS best encourage and support research that is highly innovative and/or risky?

• Are there areas of current NIGMS research activity that should receive less emphasis?

• How can NIGMS enhance its communication with the scientific community and the public?

• How can NIGMS more effectively promote and encourage greater diversity in the biomedical research workforce?

You may also submit other comments relevant to NIGMS that are not specifically addressed in these questions.

Responses will be limited to approximately 500 words per question. All information provided will be processed and analyzed with strict anonymity.

Contact Person: Judith H. Greenberg, PhD., National Institute of General Medical Sciences, National Institutes of Health, Building 45, Room 2AS25, 45 Center Drive, MSC 6200, Bethesda, Maryland 20892-6200; 301-594-0943; greenbej@nigms.nih.gov.

Dated: February 16, 2007.
Jeremy M. Berg,
Director, National Institute of General Medical Sciences, National Institutes of Health.

[FR Doc. E7-3152 Filed 2-23-07; 8:45 am]

BILLING CODE 4140-01-P